DEPARTMENT OF HEALTH AND HUMAN SERVICES

National Institutes of Health

Request for Information: Stakeholder Input on Opportunities for Increased Collaboration to Advance Prevention Research

AGENCY: National Institutes of Health, HHS.

ACTION: Notice.

SUMMARY: The National Institutes of Health (NIH), Office of the Director, Office of Disease Prevention (ODP) issues this Request for Information (RFI) to identify opportunities to foster and engage in partnerships and dialogue with stakeholders to advance prevention research. The ODP hopes this will help us determine areas where we can collaboratively advance prevention research priorities, training opportunities, and better meet the needs of our stakeholders. The ODP invites input from researchers in academia and industry, health care professionals, patient advocates and advocacy organizations, scientific or professional organizations, federal agencies, and other interested members of the public. Organizations are strongly encouraged to submit a single response that reflects the views of the organization and membership as a whole.

DATES: The ODP's RFI is open for public comment for a period of 45 days. Responses must be received by 5:00 p.m. ET on March 29, 2020 to ensure consideration.

ADDRESSES: Comments must be submitted electronically at https://prevention.nih.gov/StakeholderRFI.

FOR FURTHER INFORMATION CONTACT: Please direct all inquiries to Marie Rienzo, M.A.; ODP, NIH; Phone: 301-827-5561; email: prevention@nih.gov.

SUPPLEMENTARY INFORMATION: To ensure consideration, responses must be submitted electronically at https://prevention.nih.gov/StakeholderRFI. Respondents will receive a confirmation of their submission but will not get individualized feedback. All respondents are encouraged to sign up for the ODP listserv to receive information about the ODP's latest activities.

In accordance with 42 U.S.C. 282(f) of the Public Health Service Act, as amended, the mission of the ODP is to improve public health by increasing the scope, quality, dissemination, and impact of prevention research supported by the NIH. The ODP's Strategic Plan FY 2019-2023 includes six strategic priorities and three cross-cutting themes that guide the activities of the Office.

The cross-cutting themes represent areas of opportunity for the ODP to serve as a catalyst for developing, coordinating, and implementing new activities and to better integrate disease prevention into trans-NIH initiatives.

• Stimulate research to address the leading causes and risk factors for premature mortality and morbidity.

• Support activities that strengthen research to address health disparities.

• Promote prevention-related dissemination and implementation research.

The ODP's six priorities represent the breadth of our activities and allow for emerging areas of opportunity to be incorporated into Office activities.

• Systematically monitor NIH investments in prevention research and the progress and results of that research.

• Identify prevention research areas for investment or expanded effort by the NIH.

• Promote the use of the best available methods in prevention research and support the development of better methods.

• Promote collaborative prevention research projects and facilitate coordination of such projects across the NIH and with other public and private entities.

• Promote and facilitate tobacco regulatory science and tobacco prevention research.

• Communicate the importance and value of prevention research, disseminate prevention research resources and programs, and build and enhance relationships with key stakeholders.

The definition of prevention research used by the ODP encompasses both primary and secondary prevention. Primary prevention includes research designed to promote health; identify risk factors for developing a new health condition (e.g., disease, disorder, injury); and prevent the onset of a new health condition. Secondary prevention includes research designed to identify risk factors for the progression or recurrence of a health condition and detecting and preventing progression of an asymptomatic or early-stage condition.

The ODP helps develop and coordinate prevention research activities including, but not limited to, funding opportunities, workshops, and conferences across the NIH and with other public and private organizations. The Office is looking to build and leverage its resources and partnerships to further support prevention research. Input received from this RFI will help the ODP identify opportunities for increased dialogue, partnerships, collaboration, and engagement with stakeholders. The ODP hopes this will help us pinpoint areas where collaborative efforts can help advance prevention research.

Information Requested

The ODP is seeking input on the following topics/areas:

1. Please comment on the top 2-3 strategies for increasing collaboration and engagement between the ODP and your organization. The ODP is particularly interested in opportunities to advance areas that address the top disease risk factors in the United States, as well as efforts to reduce health disparities, improve quality and access to care for major contributors to morbidity and mortality, and help address social determinants of health.

2. Please provide suggestions for how the ODP can foster high-quality collaborative prevention research and in what areas (e.g., screening for disease or risk factors, economics of prevention, prevention methods and measurement research, training efforts).

3. The ODP has developed resources to educate researchers and promote prevention research. The Office is looking for opportunities to collaborate with organizations to create new materials to achieve these goals. Please identify the 2-3 resources (e.g., training courses, fact sheets, infographics, videos) that would be most useful for your organization.

4. The ODP often presents and exhibits at various scientific meetings. Please identify scientific meetings that might benefit from ODP participation.

5. Optional: Please indicate if you are a:

• Researcher in academia

• Researcher in industry

• Health care professional

• Patient advocate

• Staff member at a scientific or professional organization

• Federal government employee

Responses to this RFI are voluntary and may be submitted anonymously. Proprietary, classified, confidential, or sensitive information should not be included in responses. We will post a summary report of the comments on the ODP website. Any personal identifiers (personal names, email addresses, etc.) will be removed when responses are compiled.

This RFI is for planning purposes only and should not be construed as a solicitation for applications or proposals, or as an obligation in any way on the part of the United States Federal government. The Federal government will not pay for the preparation of any information submitted or for the government's use. Additionally, the government cannot guarantee the confidentiality of the information provided.

Dated: February 7, 2020.
Lawrence A. Tabak,
Principle Deputy Director, National Institutes of Health.

[FR Doc. 2020-02918 Filed 2-12-20; 8:45 am]

BILLING CODE 4140-01-P